DEPARTMENT OF JUSTICE

Notice of Proposed Settlement Agreement for Natural Resource Damages Under the Oil Pollution Act of 1990, 33 U.S.C. 2701 et seq. and the Clean Water Act, 33 U.S.C. 1251 et seq.

Notice is hereby given that the United States of America, on behalf of the Department of the Interior (“DOI”) acting through the Fish and Wildlife Service, and the Commonwealth of Virginia, acting through the Virginia Department of Environmental Quality (collectively “Trustees”), are providing an opportunity for public comment on a proposed Settlement Agreement (“Settlement Agreement”) among DOI, the Commonwealth of Virginia, and Kinder Morgan resolving civil claims arising from a January 22, 2016 spill of 75,222 gallons of jet fuel A at the Kinder Morgan Virginia Liquids Terminal located in Chesapeake, Virginia. The Trustees determined that the spill threatened natural resources and that the release affected or potentially affected migratory birds. Defendant Kinder Morgan performed a cooperative assessment with the Trustees and the restoration option the Trustees selected was rehabilitation of waterfowl impoundments located in the Fish and Wildlife's Back Bay National Wildlife Refuge, located in the same flyway as the natural resources lost from the release. The Damage Assessment and Restoration Plan (“DARP”) was finalized and put out for public comment in 2017 and no comments were received.

The proposed settlement provides that Kinder Morgan will pay DOI $15,000 to reimburse the costs of the Natural Resource Damage Assessment, and $100,000 for the projects to restore natural resources as selected in the DARP. In consideration for the payments, the United States and Virginia covenant not to sue Defendant for specified civil claims arising from the spill.

The publication of this notice opens a period for public comment on the proposed Settlement Agreement. The Trustees will receive comments relating to the Settlement Agreement for a period of thirty (30) days from the date of this publication. A copy of the proposed Settlement Agreement is available electronically at https://www.fws.gov/northeast/virginiafield/index.html. A copy of the proposed Settlement Agreement may be examined at the Fish and Wildlife Service Field office located in Gloucester, Virginia. Arrangements to view the documents must be made in advance by contacting the Environmental Contaminants Biologist at 804-824-2415 or email at susan_lingenfelser@fws.gov. A copy of the Settlement Agreement may also be obtained by mail from:

Mark Barash, Esq., Senior Attorney, Office of the Solicitor of the United States, Department of the Interior, 15 State St., 8th Floor, Boston, MA 02109-3502

Please reference: Kinder Morgan Virginia Liquids Terminal LLC Settlement Agreement, DOI-SOL-ASA-2017-00201. When requesting a copy of the Settlement Agreement please enclose a check in the amount of $2.75 (25 cents per page reproduction cost) payable to the United States Treasury.

Comments on the proposed Settlement Agreement may be submitted either by email or by mail:

To submit comments: | Send them to:
By email | DOInrdar@ios.doi.gov. Subject: Comment on Kinder Morgan Settlement Agreement.
By mail | Assistant Solicitor, Environmental Restoration Branch, Office of the Solicitor, U.S. Department of the Interior, 1849 C Street NW, Washington, DC 20240. ATTN: Kinder Morgan Settlement Agreement.

Robert Brook,
Assistant Section Chief, Environmental Enforcement Section, Environment and Natural Resources Division.

[FR Doc. 2018-01598 Filed 1-26-18; 8:45 am]

BILLING CODE 4410-15-P